FEDERAL COMMUNICATIONS COMMISSION

[GN Docket No. 17-83]

Third Meeting of the Broadband Deployment Advisory Committee

AGENCY: Federal Communications Commission.

ACTION: Notice.

SUMMARY: In this document, the Commission announces and provides an agenda for the third meeting of Broadband Deployment Advisory Committee (BDAC).

DATES: Thursday, November 9, 2017, 9:30 a.m.

ADDRESSES: Federal Communications Commission, 445 12th Street SW., Room TW-C305, Washington, DC 20554.

FOR FURTHER INFORMATION CONTACT: Brian Hurley, Designated Federal Officer (DFO), at (202) 418-2220 or brian.hurley@fcc.gov; or Paul D'Ari, Deputy DFO, at (202) 418-1550 or paul.dari@fcc.gov. The TTY number is: (202) 418-0484.

SUPPLEMENTARY INFORMATION: This meeting is open to members of the general public. The FCC will accommodate as many participants as possible; however, admittance will be limited to seating availability. The Commission will also provide audio and/or video coverage of the meeting over the Internet from the FCC's Web page at www.fcc.gov/live. Oral statements at the meeting by parties or entities not represented on the BDAC will be permitted to the extent time permits, at the discretion of the BDAC Chair and the DFO. Members of the public may submit comments to the BDAC in the FCC's Electronic Comment Filing System, ECFS, at www.fcc.gov/ecfs. Comments to the BDAC should be filed in Docket 17-83.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted but may not be possible to accommodate.

Proposed Agenda: At this meeting, the BDAC will consider initial recommendations from its Model Code for Municipalities, Model Code for States, Competitive Access to Broadband Infrastructure, and Removing State and Local Regulatory Barriers Working Groups. The BDAC will also consider and discuss an initial report from its Streamlining Federal Siting Working Group. In addition, the BDAC will continue its discussions on how to accelerate the deployment of broadband by reducing and/or removing regulatory barriers to infrastructure investment. This agenda may be modified at the discretion of the BDAC Chair and the DFO.

Federal Communications Commission.
Marilyn Jones,
Senior Counsel for Number Administration, Competition Policy Division, Wireline Competition Bureau.

[FR Doc. 2017-22469 Filed 10-16-17; 8:45 am]

BILLING CODE 6712-01-P